DEPARTMENT OF TRANSPORTATION

Federal Transit Administration

FTA Fiscal Year 2004 Apportionments, Allocations and Program Information; Notice of Supplemental Information and Changes

AGENCY: Federal Transit Administration (FTA), DOT.

ACTION: Notice.

SUMMARY: This notice announces further availability of apportionments for the Federal Transit Program. With only temporary extensions of our program authorization, FTA has published two previous documents identifying total annual apportionments and apportionments based on an extension of our program authorization. This notice makes fiscal year (FY) 2004 transit funds available for obligation based on program funding levels authorized by the Surface Transportation Extension Act of 2004, Part II (Pub. L. 108-224). With this notice, generally 9/12 of our annual appropriation is now available for grants. This notice also identifies changes to prior year bus and bus-related allocations, and extends the period of availability for FY 2004 funding for the Elderly and Persons with Disabilities Program (49 U.S.C. 5310).

FOR FURTHER INFORMATION CONTACT: The appropriate FTA Regional Administrator (see list at end of notice) or Mary Martha Churchman, Director, Office of Resource Management and State Programs, (202) 366-2053.

ADDRESSES: Address, telephone, and facsimile information for the FTA Regional Offices is listed at the end of this notice in Appendix A.

I. Funds Available for Obligation

The “Surface Transportation Extension Act of 2004, Part II” (Pub. L. 108-224) was signed into law by President Bush on April 30, 2004. The Act provides an extension of programs funded from the Highway Trust Fund, pending enactment of a law reauthorizing the Transportation Equity Act for the 21st Century (TEA-21), and provides contract authority for transit programs from October 1, 2003, through June 30, 2004.

FTA has revised the apportionment and allocation tables published in the supplemental Federal Register notice on March 29, 2004, to reflect the amount of FY 2004 funding that is currently available for obligation by grantees for the respective FTA program, in accordance with the Surface Transportation Extension Act of 2004, Part II, and the Consolidated Appropriations Act, 2004 (Pub. L. 108-199, Division F). The revised tables are posted on the FTA Web site at [http://www.fta.dot.gov/25_ENG_HTML.htm], together with this notice. The tables are also available by calling the Regional Office. Each Regional Office will also distribute the tables by e-mail to its mailing list.

FTA's program is funded by two sources of funds: the General Fund and the Highway Trust Fund. A column labeled “Apportionment” or “Allocation” in the revised tables includes both trust funds (contract authority) and general funds, and reflects the total dollar amount of obligation limitation and appropriations in the Consolidated Appropriations Act, 2004, once full year contract authority is made available. This amount does not represent the amount that is actually available for obligation at this time. The amount shown in a column labeled “Available Apportionment” or “Available Allocation” is currently available for obligation. The percentage of the full year's apportionment or allocation available to an individual State or urbanized area may vary by program. The total available for some programs included reallocated prior year funds, as shown in table 1. In the case of formula programs, the amounts available were determined by applying the formula to the total amount available for the program. In the case of Congressional allocations, the total amount available for the program was prorated to each project or activity.

II. Changes to Bus and Bus-Related Project Allocations

FTA has made changes to several bus and bus-related projects allocated in previous years based on correspondence received from Congress that clarifies the intent of the projects. The projects and clarifications are as follows:

1. Fort Smith Bus Maintenance Facility, Arkansas. The FY 2003 Department of Transportation and Related Agencies Act includes $750,000 in the bus and bus facilities account for “Arkansas—Fort Smith Bus”. The Conferees agree that the project description should read “Arkansas—Fort Smith Bus Maintenance Facility”.

2. Pelham Intermodal Facility, New York. The FY 2002 Department of Transportation and Related Agencies Act includes $260,000 in the bus and bus facilities account for the “New York—Pelham trolley”. It is the intent of the conferees that the funds shall be available for Pelham Intermodal Facility.

III. Period of Availability for FY 2004 Section 5310 Funds Extended

The period of availability for funds appropriated for the Elderly and Persons with Disabilities Program (49 U.S.C. 5310) is administratively established at one fiscal year. As noted in the February 11, 2004, Federal Register Notice of FTA FY 2004 apportionments and allocations, FY 2004 funds allocated to States under section 5310 must be obligated by September 30, 2004.

Due to the delayed availability of the full year's apportionment of FY 2004 section 5310 funds and the limited period during which the funds may be obligated, FTA is extending the period of availability for FY 2004 section 5310 funds by six months. This should provide flexibility to States that may need additional time to obligate FY 2004 funds. With this six-month extension, FY 2004 funds apportioned to States under section 5310 must be obligated by March 31, 2005.

Issued on: May 27, 2004.
Jennifer L. Dorn,
Administrator.

BILLING CODE 4910-57-P

BILLING CODE 4910-57-C

Appendix A—FTA Regional Offices

Region 1: Richard H. Doyle, Regional Administrator, Cambridge, MA 02142-1093, Tel. 617-494-2055, Fax 617-494-2865.

Region 2: Letitia Thompson, Regional Administrator, New York, NY 10004-1415, Tel. No. 212-668-2170, Fax 212-668-2136.

Region 3: Herman Shipman, Deputy Regional Administrator, Philadelphia, PA 19103-4124, Tel. 215-656-7100, Fax 215-656-7100.

Region 4: Hiram J. Walker, Regional Administrator, Atlanta, GA 30303, Tel. 404-562-3500, Fax 404-562-3505.

Region 5: Joel P. Ettinger, Regional Administrator, Chicago, IL 60606, Tel. 312-353-2789, Fax 312-886-0351.

Region 6: Robert C. Patrick, Regional Administrator, Fort Worth, TX 76102, Tel. 817-978-0550, Fax 817-978-0575.

Region 7: Mokhtee Ahmad, Regional Administrator, Kansas City, MO 64106, Tel. 816-329-3920, Fax 816-329-3921.

Region 8: Lee O. Waddleton, Regional Administrator, Denver, CO 80202-5120, Tel. 303-844-3242, Fax 303-844-4217.

Region 9: Leslie T. Rogers, Regional Administrator, San Francisco, CA 94105-1926, Tel. 415-744-3133, Fax 414-744-2726.

Region 10: Rick Krochalis, Regional Administrator, Seattle, WA 98174-1002, Tel. 206-220-7954, Fax 206-220-7959.

[FR Doc. 04-12544 Filed 6-2-04; 8:45 am]

BILLING CODE 4910-57-P